DEPARTMENT OF THE INTERIOR

Geological Survey

Announcement of National Geospatial Advisory Committee Meeting

AGENCY: U.S. Geological Survey, Interior.

ACTION: Notice of meeting.

SUMMARY: The National Geospatial Advisory Committee (NGAC) will meet on September 22-23, 2010 at the American Institute of Architects Building, 1735 New York Avenue, NW., Washington, DC 20006. The meeting will be held in the Gallery Room. The NGAC, which is composed of representatives from governmental, private sector, non-profit, and academic organizations, was established to advise the Chair of the Federal Geographic Data Committee on management of Federal geospatial programs, the development of the National Spatial Data Infrastructure, and the implementation of Office of Management and Budget (OMB) Circular A-16. Topics to be addressed at the meeting include:

—Geospatial Platform.

—Place-Based Policies Initiative.

—Geospatial Metrics.

—FGDC Update.

—Geospatial Program Updates.

—NGAC Subcommittee Reports.

The meeting will include an opportunity for public comment on September 23. Comments may also be submitted to the NGAC in writing. Members of the public who wish to attend the meeting must register in advance. Please register by contacting Arista Maher at the U.S. Geological Survey (703-648-6283, amaher@usgs.gov). Registrations are due by September 17, 2010. While the meeting will be open to the public, seating may be limited due to room capacity.

DATES: The meeting will be held from 8:30 a.m. to 5 p.m. on September 22 and from 8:30 a.m. to 4 p.m. on September 23.

FOR FURTHER INFORMATION CONTACT: John Mahoney, U.S. Geological Survey (206-220-4621).

SUPPLEMENTARY INFORMATION: Meetings of the National Geospatial Advisory Committee are open to the public. Additional information about the NGAC and the meeting is available at http://www.fgdc.gov/ngac.

Dated: August 30, 2010.
Ken Shaffer,
Deputy Executive Director, Federal Geographic Data Committee.

[FR Doc. 2010-22153 Filed 9-3-10; 8:45 am]

BILLING CODE 4311-AM-P